DEPARTMENT OF ENERGY

Federal Energy Regulatory Commission

[Project No. 13629-000]

Fred Coleman; Notice of Preliminary Permit Application Accepted for Filing and Soliciting Comments, Motions To Intervene, and Competing Applications

January 22, 2010.

On November 13, 2009, Fred Coleman filed an application for a preliminary permit, pursuant to section 4(f) of the Federal Power Act, proposing to study the feasibility of the Coleman Ranch Hydroelectric Project, which would be located on the Bird irrigation canal, a tributary of Little Timber Creek in Lemhi County, Idaho. The sole purpose of a preliminary permit, if issued, is to grant the permit holder priority to file a license application during the permit term. A preliminary permit does not authorize the permit holder to perform any land disturbing activities or otherwise enter upon lands or waters owned by others without the owners' express permission.

The proposed project would consist of: (1) A new 30-foot by 30-foot impoundment with a storage capacity of 0.1 acre-foot, located within or adjacent to the existing Bird irrigation canal; (2) a new intake structure with a fish screen; (3) one of three options for water conveyance: (a) Option 1, a new buried 24-inch to 30-inch diameter, 23,000-foot-long plastic or steel pipeline; (b) Option 2, a new buried 24-inch to 30-inch diameter, 25,300-foot-long plastic or steel pipeline; or (c) Option 3, a new 12,500-foot-long canal with a 3-foot-wide bottom and a new buried 24-inch to 30-inch diameter, 18,800-foot-long plastic or steel pipeline; (4) a new 20-foot by 20-foot powerhouse containing one generating unit with an installed capacity of 800 kilowatts, discharging into a new non-project concrete splitter box and thence into irrigation canals; and (5) a new 12.5-kilovolt, 4-mile-long transmission line connecting the project to an existing Idaho Power Company substation. The proposed project would have an average annual generation of 3.325 gigawatt-hours.

Applicant Contact: Nicholas E. Josten, 2742 Saint Charles Avenue, Idaho Falls, Idaho 83404; phone: (208) 528-6152.

FERC Contact: Dianne Rodman, (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13629) in the docket number field to access the document. For assistance, contact FERC Online Support.

Kimberly D. Bose,
Secretary.

[FR Doc. 2010-1981 Filed 1-29-10; 8:45 am]

BILLING CODE 6717-01-P